DEPARTMENT OF THE INTERIOR

Bureau of Indian Affairs

Education Facilities Replacement Construction Priority List as of FY 2003

Correction

In notice document 03-17343 beginning on page 40996 in the issue of Wednesday, July 9, 2003, make the following correction:

On page 40997, in the third column, under the heading Education Facilities Replacement Construction Priority List as of FY 2003, add the following entry in numerical order:

“4. Isleta Elementary School”.

[FR Doc. C3-17343 Filed 7-17-03; 8:45 am]

BILLING CODE 1505-01-D

NATIONAL SCIENCE FOUNDATION

Sunshine Act Meetings

Correction

In notice document 03-17695 appearing on page 41404 in the issue of Friday, July 11, 2003, make the following correction:

On page 41404, second column, under the paragraph titled AGENCY HOLDING MEETING:, insert “DATE AND TIME: July 16, 2003: 3 p.m.-4 p.m., Open Session.”

[FR Doc. C3-17695 Filed 7-17-03; 8:45 am]

BILLING CODE 1505-01-D

DEPARTMENT OF THE TREASURY

48 CFR Chapter 10

RIN 1505-AA89

Department of the Treasury Acquisition Regulation

Correction

In rule document 03-16918 beginning on page 39854 in the issue of Thursday, July 3, 2003 make the following corrections:

PART 1005 [Corrected]

1. On page 39856, in the second column, in the table of contents, “1005.202 Definitions.” should read “1005.202 Exceptions.”.

§1005.202 [Corrected]

2. On the same page, in the same column, under Subpart 1005.2—Synopses of Proposed Contract Actions, the section heading should read as set forth above.

[FR Doc. C3-16918 Filed 7-17-03; 8:45 am]

BILLING CODE 1505-01-D